NUCLEAR REGULATORY COMMISSION

[NRC-2020-0107]

Information Collection: Part 55 Exemption Request and Part 55 Research and Test Reactor Exemption Request

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The information collection is entitled, “Part 55 Exemption Request and Part 55 Research and Test Reactor Exemption Request.”

DATES: Submit comments by October 5, 2020. Comments received after this date will be considered if it is practical to do so, but the Commission is able to ensure consideration only for comments received on or before this date.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION:

I. Obtaining Information and Submitting Comments

A. Obtaining Information

Please refer to Docket ID NRC-2020-0107 when contacting the NRC about the availability of information for this action. You may obtain publicly-available information related to this action by any of the following methods:

• Federal rulemaking Website: Go to https://www.regulations.gov and search for Docket ID NRC-2020-0107. A copy of the collection of information and related instructions may be obtained without charge by accessing Docket ID NRC-2020-0107 on this website.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. A copy of the collection of information and related instructions may be obtained without charge by accessing ADAMS Accession Nos. ML20126G469 and ML20126G490. The supporting statement is available in ADAMS under Accession No. ML20170A358.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@NRC.GOV.

B. Submitting Comments

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. chapter 35), the NRC recently submitted a request for renewal of an existing collection of information to OMB for review entitled, “Part 55 Exemption Request and Part 55 Research and Test Reactor Exemption Request.” The NRC hereby informs potential respondents that an agency may not conduct or sponsor, and that a person is not required to respond to, a collection of information unless it displays a currently valid OMB control number.

The NRC published a Federal Register notice with a 60-day comment period on this information collection on May 13, 2020 (85 FR 28667).

1. The title of the information collection: “Part 55 Exemption Request and Part 55 Research and Test Reactor Exemption Request.”

2. OMB approval number: 3150-0018.

3. Type of submission: Extension.

4. The form number if applicable: There is no form number for the online submission form.

5. How often the collection is required or requested: On occasion.

6. Who will be required or asked to respond: All holders of, and certain applicants for, nuclear power plant construction permits and operating licenses under the provisions of part 50 of title 10 of the Code of Federal Regulations (10 CFR part 50), “Domestic Licensing of Production and Utilization Facilities” who seek exemptions from the requalification requirements specified in 10 CFR 55.59 as allowed by 10 CFR 55.11, “Specific Exemptions.”

7. The estimated number of annual responses: 60.

8. The estimated number of annual respondents: 60.

9. An estimate of the total number of hours needed annually to comply with the information collection requirement or request: 120.

10. Abstract: The NRC requested an emergency review of this information collection in order to add this form to the previously approved information collection OMB Control Number 3150-0018 for a period of 6 months. The purpose of this information collection is to request an extension of the approval of the “Part 55 Exemption Request and Part 55 Research and Test Reactor Exemption Request” online forms that simplify the filing the exemption requests because the existing system may be burdensome for licensees under current conditions. Under the existing collection under OMB Control No. 3150-0018, licensees are already able to seek exemptions from the requirements of 10 CFR part 55, Operators' Licenses. This information collection only addresses the incremental burden change to this existing clearance due to the form and not the total burden for the clearance.

10 CFR part 55 contains specific requirements for the licensing of utilization facility operators and senior operators. Due to the impacts of the COVID-19 public health emergency (PHE), the NRC will also consider exemption requests for operators and senior operators from the requirements in 10 CFR 55.59(a)(1) (requiring the operators and senior operators to successfully complete the Commission-approved requalification program) and in 10 CFR 55.59(a)(2) (requiring the operators and senior operators to pass a comprehensive requalification written examination and an annual operating test); these exemptions would allow delay of these requalification program requirements during the COVID-19 PHE as allowed by 10 CFR 55.11, “Specific Exemptions.”

Dated: August 28, 2020.
For the Nuclear Regulatory Commission.
David C. Cullison,
NRC Clearance Officer, Office of the Chief Information Officer.

[FR Doc. 2020-19457 Filed 9-2-20; 8:45 am]

BILLING CODE 7590-01-P